DEPARTMENT OF COMMERCE

Foreign-Trade Zones Board

[Order No. 1694]

Reorganization of Foreign-Trade Zone 121 Under Alternative Site Framework Capital District, New York

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/09; correction 74 FR 3987, 01/22/09) as an option for the establishment or reorganization of general-purpose zones;

Whereas, the Capital District Regional Planning Commission, grantee of Foreign-Trade Zone 121, submitted an application to the Board (FTZ Docket 47-2009, filed 11-3-2009 and amended 5-5-2010) for authority to reorganize under the ASF with a service area of the New York counties of Albany, Columbia, Greene, Fulton, Montgomery, Rensselaer, Saratoga, Schenectady, Warren, and Washington, in and adjacent to the Albany Customs and Border Protection port of entry, FTZ 121's existing Sites 1, 2 and 3, and new Sites 5 and 6 would be categorized as magnet sites;

Whereas, notice inviting public comment was given in the Federal Register (74 FR 58002-58003, 11-10-09 and 75 FR 26198, 5-11-10) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize FTZ 121 under the alternative site framework is approved, subject to the FTZ Act and the Board's regulations, including Section 400.28, to the Board's standard 2,000-acre activation limit for the overall general-purpose zone project, to a five-year ASF sunset provision for magnet sites that would terminate authority for Sites 1, 2, 3 and 6 if not activated by June 30, 2015, and to a seven-year ASF sunset provision that would terminate authority for magnet Site 5 if not activated by June 30, 2017.

Signed at Washington, DC, July 8, 2010.
Ronald K. Lorentzen,
Deputy Assistant Secretary for Import Administration, Alternate Chairman, Foreign-Trade Zones Board.
Andrew McGilvray,
Executive Secretary.

[FR Doc. 2010-17971 Filed 7-21-10; 8:45 am]

BILLING CODE 3510-DS-P